DEPARTMENT OF AGRICULTURE

Food and Nutrition Service

7 CFR Parts 210, 215, 220, 225, and 226

RIN 0584-AE88

Child Nutrition Programs: Revisions to Meal Patterns Consistent With the 2020 Dietary Guidelines for Americans

AGENCY: Food and Nutrition Service (FNS), USDA.

ACTION: Proposed rule; extension of comment period.

SUMMARY: The USDA Food and Nutrition Service is extending the public comment period on the proposed rule, “Child Nutrition Programs: Revisions to Meal Patterns Consistent With the 2020 Dietary Guidelines for Americans,” which published in the Federal Register on February 7, 2023. This action extends the public comment period from April 10, 2023, to May 10, 2023, to give the public additional time to review the proposed rule.

DATES: The comment period of the proposed rule published February 7, 2023, at 88 FR 8050, is extended through May 10, 2023. To be assured of consideration, written comments on this proposed rule must be received on or before May 10, 2023.

ADDRESSES: The Food and Nutrition Service invites interested persons to submit comments on this proposed rule. Comments may be submitted by any of the following methods:

• Federal eRulemaking Portal: Go to https://www.regulations.gov. Follow the online instructions for submitting comments.

• Mail: Send comments to School Meals Policy Division, Food and Nutrition Service, P.O. Box 9233, Reston, Virginia 20195.

• All comments submitted in response to this proposed rule will be included in the record and will be made available to the public. Please be advised that the substance of the comments and the identity of the individuals or entities submitting the comments will be subject to public disclosure. The Food and Nutrition Service will make the comments publicly available on the internet via https://www.regulations.gov.

FOR FURTHER INFORMATION CONTACT: Tina Namian, School Meals Policy Division—4th floor, Food and Nutrition Service, 1320 Braddock Place, Alexandria, VA 22314; telephone: 703-305-2590.

SUPPLEMENTARY INFORMATION: The Food and Nutrition Service is extending the public comment period on the proposed rule “Child Nutrition Programs: Revisions to Meal Patterns Consistent With the 2020 Dietary Guidelines for Americans,” which published on February 7, 2023, at 88 FR 8050. This rulemaking proposes long-term school nutrition standards based on the Dietary Guidelines for Americans, 2020-2025, and feedback the U.S. Department of Agriculture (USDA) received from child nutrition program stakeholders during a robust stakeholder engagement campaign. This action extends the public comment period to May 10, 2023, to give the public additional time to review the proposed rule. USDA is proposing a gradual multi-year approach to implementing the nutrition standards. The proposed rule indicates that USDA expects to issue a final rule in time for schools to plan for school year (SY) 2024-2025. However, the proposed rule would not require changes from current meal patterns to take effect in SY 2024-2025. As proposed, new requirements to the school meal patterns would not begin until SY 2025-2026, at the earliest. USDA encourages public comments on the proposed implementation timelines, in addition to the proposed changes to the child nutrition program's regulatory text.

Cynthia Long,
Administrator, Food and Nutrition Service.

[FR Doc. 2023-06666 Filed 3-30-23; 8:45 am]

BILLING CODE 3410-30-P